DEPARTMENT OF THE INTERIOR

Bureau of Reclamation

Agency Information Collection; Renewal of a Currently Approved Information Collection

AGENCY: Bureau of Reclamation, Interior.

ACTION: Notice and request for comments.

SUMMARY: The Bureau of Reclamation intends to seek an extension of the information collection for the Lower Colorado River Well Inventory (1006-0014). The current OMB approval expires on May 31, 2012.

DATES: Submit comments on this notice by April 16, 2012.

ADDRESSES: Send all written comments concerning this notice to Paul Matuska, Water Accounting and Verification Group Manager, LC-4200, Bureau of Reclamation, Lower Colorado Regional Office, P.O. Box 61470, Boulder City, NV 89006-1470; or by email to pmatuska@usbr.gov.

FOR FURTHER INFORMATION CONTACT: Paul Matuska, Water Accounting and Verification Group Manager, Bureau of Reclamation, Lower Colorado Regional Office, 702-293-8164.

SUPPLEMENTARY INFORMATION: In accordance with the Paperwork Reduction Act of 1995 (44 U.S.C. 3501 et seq.), this notice announces that the Bureau of Reclamation is requesting approval for the collection of data from well and river-pump owners and operators along the lower Colorado River in Arizona, California, and Nevada.

Title: Lower Colorado River Well Inventory.

OMB Control Number: 1006-0014.

Abstract: Pursuant to the Boulder Canyon Project Act (Pub. L. 70-642, 45 Stat. 1057), all diversions of mainstream Colorado River water must be in accordance with a Colorado River water entitlement. The Consolidated Decree of the United States Supreme Court in Arizona v. California, 547 U.S. 150 (2006) requires the Secretary of the Interior to account for all diversions of mainstream Colorado River water along the lower Colorado River, including water drawn from the mainstream by underground pumping. To meet the water entitlement and accounting obligations, an inventory of wells and river pumps is required along the lower Colorado River, and the gathering of specific information concerning these wells.

Description of respondents: The respondents will include well and river-pump owners and operators along the lower Colorado River in Arizona, California, and Nevada. Each diverter (including well pumpers) must be identified and their diversion locations and water use determined.

Frequency: These data are collected only once for each well or river-pump owner or operator as long as changes in water use, or other changes that would impact contractual or administrative requirements, are not made. A respondent may request that the data for its well or river pump be updated after the initial inventory.

Estimated completion time: An average of 20 minutes is required to interview individual well and river-pump owners or operators. Reclamation will use the information collected during these interviews to complete the information collection form.

Estimated Total Number of Respondents: 1,500.

Estimated Number of Responses per Respondent: 1.0.

Estimated Total of Annual Responses: 1,500.

Estimated Total Annual Burden Hours on Respondents: 500 hours.

Comments

Comments are invited on:

(a) Whether the proposed collection of information is necessary for the proper performance of our functions, including whether the information will have practical use;

(b) The accuracy of our burden estimate for the proposed collection of information;

(c) Ways to enhance the quality, usefulness, and clarity of the information to be collected; and

(d) Ways to minimize the burden of the collection of information on respondents, including the use of automated collection techniques or other forms of information technology.

We will summarize all comments received regarding this notice. We will publish that summary in the Federal Register when the information collection request is submitted to OMB for review and approval.

Public Disclosure

Before including your address, telephone number, email address, or other personal identifying information in your comment, you should be aware that your entire comment—including your personal identifying information—may be made publicly available at any time. While you can ask us in your comment to withhold your personal identifying information from public review, we cannot guarantee that we will be able to do so.

Dated: February 10, 2012.
Terrance J. Fulp,
Acting Regional Director, Lower Colorado Region, Bureau of Reclamation.

[FR Doc. 2012-3649 Filed 2-15-12; 8:45 am]

BILLING CODE 4310-MN-P